DEPARTMENT OF AGRICULTURE

Notice of Intent To Seek Approval To Collect Information; Correction

AGENCY: Agricultural Research Service, USDA.

ACTION: Notice and request for comments.

SUMMARY: The notice to seek comments on the Agricultural Research Services (ARS) intent to seek approval from OMB to collect information on the National Program 216 Technology Transfer Project End-users' Inputs was published in the Federal Register on October 20, 2009. The document improperly included the National Agriculture Library in the heading as the issueing agency and did not contain the OMB number and expiration date.

FOR FURTHER INFORMATION CONTACT: Bryan Kaphammer, (970) 492-7023.

SUPPLEMENTARY INFORMATION:

Correction

In the Federal Register of October 20, 2009, in FR Doc. E9-25228, on page 53697, in the agency heading “National Agriculture Library ” is removed and the correct OMB number and the OMB number and expiration date are corrected to read as follows:

OMB Number: 0518-XXXX

Expiration Date: Three years from the approval date.

Dated: October 20, 2009.
Yvette Anderson,
Federal Register Liaison Officer for Agriculture Research Service.

[FR Doc. E9-25603 Filed 10-23-09; 8:45 am]

BILLING CODE P